FEDERAL RESERVE SYSTEM

Formations of, Acquisitions by, and Mergers of Bank Holding Companies; Correction

This notice corrects a notice (FR Doc. 00-21591) published on pages 51618 and 51619 of the issue for Thursday, August 24, 2000.

Under the Federal Reserve Bank of San Francisco heading, the entry for BOU Bancorp, Inc., Ogden, Utah, is revised to read as follows:

A. Federal Reserve Bank of San Francisco (Maria Villanueva, Consumer Regulation Group) 101 Market Street, San Francisco, California 94105-1579:

1. BOU Bancorp, Inc., Ogden, Utah; to become a bank holding company by acquiring 100 percent of the voting shares of Bank of Utah, Ogden, Utah.

Comments on this application must be received by September 15, 2000.

Board of Governors of the Federal Reserve System, August 29, 2000.
Robert deV. Frierson,
Associate Secretary of the Board.

[FR Doc. 00-22576 Filed 9-1-00; 8:45 am]

BILLING CODE 6210-01-P